DEPARTMENT OF HOMELAND SECURITY

Coast Guard

33 CFR Part 117

[Docket No. USCG-2017-0470]

Drawbridge Operation Regulation; Swinomish Channel, Whitmarsh, WA

AGENCY: Coast Guard, DHS.

ACTION: Notice of deviation from drawbridge regulation.

SUMMARY: The Coast Guard has issued a temporary deviation from the operating schedule that governs the Northern Santa Fe Railroad Company (BNSF) Railroad Swing Span Drawbridge 12A across Swinomish Channel, mile 8.4, near Whitmarsh, WA. This deviation is necessary to accommodate replacement of the bridge protective fendering system. The deviation allows the bridge to remain in the closed-to-navigation position at various times based on low tide predictions; and also allows the swing span to not completely open at various times detained herein.

DATES: This deviation is effective from 7 a.m. on July 1, 2017 to 6 p.m. on November 30, 2017.

ADDRESSES: The docket for this deviation, [USCG-2017-0470] is available at http://www.regulations.gov. Type the docket number in the “SEARCH” box and click “SEARCH.” Click on Open Docket Folder on the line associated with this deviation.

FOR FURTHER INFORMATION CONTACT: If you have questions on this temporary deviation, call or email Mr. Steven Fischer, Bridge Administrator, Thirteenth Coast Guard District; telephone 206-220-7282, email d13-pf-d13bridges@uscg.mil.

SUPPLEMENTARY INFORMATION: BNSF (bridge owner) has requested the BNSF Railroad Swing Span Drawbridge 12 be allowed to close the span, and need not open to marine traffic to facilitate fender replacements. The BNSF Railroad Swing Span Drawbridge 12A crosses the Swinomish channel, mile 8.4, near Whitmarsh, WA. The swing span provides 8 feet of vertical clearance in the closed-to-navigation position, and 100 feet of horizontal clearance in the open-to-navigation position. The span provides unlimited vertical clearance in the open-to-navigation position. Vertical and horizontal clearances are referenced to mean high-water elevation.

The closures of the BNSF Railroad Swing Span Drawbridge for the fender replacements will depend on the tidal status of the river, which means that work (and closure), will occur on different times on different days. The specific times of the bridge closures will be published in the weekly Coast Guard Local Notice to Mariners. BNSF work requires the swing span to be in the closed-to-navigation position when the ebb tide height reaches plus three feet above Mean Tide Level, and open the span when the flood tide height reaches plus three feet above Mean Tide Level. The deviation period allows the subject bridge to be in the closed-to-navigation position from 6 a.m. on July 1, 2017 to 6 p.m. on November 30, 2017, when the river is a plus three foot ebb tide, and open the bridge span on a plus three foot flood tide Monday through Saturday. However, if the project gets delayed, work on Sundays will be required.

The swing span at various times will only be able to open to 97 percent. This reduces the horizontal navigation clearance by five feet—from 100 feet to 95 feet. The five feet of horizontal clearance is needed to position work barges at various locations to replace fenders.

During the dates and times of the deviation, the drawbridge will not be able to operate according to the normal operating schedule. This drawbridge normally operates in accordance with 33 CFR 117.5. The subject bridge is normally maintained in the open-to-navigation position. The bridge shall operate in accordance to 33 CFR 117.5 at all other times. Waterway usage on the Swinomish Channel includes commercial tugs and barges, U.S. Coast Guard vessels, and large to small pleasure craft. The Coast Guard provided notice of this deviation to local mariners via the Local Notice Mariners and emails. One objection was submitted to the Coast Guard, and requested bridge closure times be posted in the Local Notice to Mariners. As stated herein, specific times will be published in the weekly Local Notice to Mariners.

Vessels will not be able to pass through the swing span via the marked navigation channel during the closure times. Working barges will be positioned in the channel at the bridge during the closed-to-navigation periods preventing safe passage. An alternate route is via the southern Swinomish Channel using Skagit Bay. The bridge will not be able to open for vessels responding to emergencies during the stated closure times. The Coast Guard will also inform the users of the waterways through our Local and Broadcast Notices to Mariners of the change in operating schedule for the bridge so that vessels can arrange their transits to minimize any impact caused by the temporary deviation.

In accordance with 33 CFR 117.35(e), the drawbridge must return to its regular operating schedule immediately at the end of the effective period of this temporary deviation. This deviation from the operating regulations is authorized under 33 CFR 117.35.

Dated: June 23, 2017.
Steven M. Fischer,
Bridge Administrator, Thirteenth Coast Guard District.

[FR Doc. 2017-13745 Filed 6-29-17; 8:45 am]

BILLING CODE 9110-04-P